DEPARTMENT OF ENERGY

Federal Energy Regulatory Commission

Combined Notice of Filings

Take notice that the Commission has received the following Natural Gas Pipeline Rate and Refund Report filings:

Filings Instituting Proceedings

Docket Numbers: RP17-860-000.

Applicants: Dauphin Island Gathering Partners.

Description: 2016 Cash Out Report of of Dauphin Island Gathering Partners.

Filed Date: 06/28/2017.

Accession Number: 20170628-5206.

Comment Date: 5:00 p.m. Eastern Time on Monday, July 17, 2017.

Docket Numbers: RP17-894-000.

Applicants: Dominion Energy Questar Pipeline, LLC.

Description: Dominion Energy Questar Pipeline, LLC submits tariff filing per 154.204: FSS Semi-annual Testing to be effective 8/10/2017.

Filed Date: 07/10/2017.

Accession Number: 20170710-5373.

Comment Date: 5:00 p.m. Eastern Time on Monday, July 24, 2017.

Docket Numbers: RP17-895-000.

Applicants: Chesapeake Energy Marketing, L.L.C.,WSGP Gas Producing, LLC.

Description: Joint Petition of Chesapeake Energy Marketing, L.L.C., et al. for Limited Waiver and Request for Expedited Action.

Filed Date: 07/10/2017.

Accession Number: 20170710-5412.

Comment Date: 5:00 p.m. Eastern Time on Thursday, July 20, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2017.
Nathaniel J. Davis, Sr.,
Deputy Secretary.

[FR Doc. 2017-15059 Filed 7-17-17; 8:45 am]

BILLING CODE 6717-01-P